DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Treatment Outcomes Monitoring System (NTOMS)—New—NTOMS is an extension and expansion of two pilot projects funded by the Office of National Drug Control Policy (ONDCP), the Drug Evaluation Network System (DENS) and Random Access Monitoring of Narcotics Addicts (RAMONA). NTOMS will be a surveillance system that will provide periodic reporting on access to and effectiveness of drug abuse treatment using a nationally representative sample of patients receiving treatment for psychoactive substance dependence in a sample of specialty treatment providers throughout the United States. NTOMS will collect information from and about clients, and limited information about treatment facilities. A sample of 250 facilities and 84,000 clients is planned. The clients will be sampled over a period of four years. NTOMS will permit SAMHSA's Center for Substance Abuse Treatment (CSAT) to enhance its ability to carry out statutory responsibilities to determine the quality and appropriateness of treatment, as required by Sections 507(b)(13) and (14) of the Public Health Service Act [42 U.S.C. 290bb].

Specialized substance abuse treatment facilities will be sampled as clusters of service delivery units (SDU's). Facilities will be asked to complete a single instrument, the Addiction Treatment Inventory once per year to track changes in facility treatment programs and activities. Some facilities will thus complete this instrument four times; those that are recruited late in the beginning stages of the system will complete it less often. Replacements for dropouts and closures, or for the purpose of adjusting the facility sample to changes in the facility population, will also have fewer administrations.

Upon admission, a baseline battery consisting of several different instruments will be administered to a sample of clients. The principal questionnaire will include the content of the Addiction Severity Index, an intake assessment instrument already widely used at treatment facilities. This content will impose no marginal burden on clients beyond the normal intake process. However, the Addiction Severity Index will be supplemented by additional items that are required for CSAT to meet its obligations under the Government Performance Results Act of 1993 (GPRA) (31 U.S.C. 101) and by items concerning entering patients collected at publicly-funded treatment facilities as part of the Treatment Episode Data Set, a component of the Drug and Alcohol Services Information System. At admission, three other questionnaires will be administered. The Life History Interview (LHI) will obtain information about patterns of substance use over the past five years. The Waiting List Module will ask about access to treatment and how long entering patients have waited for admission since seeking treatment. The Locator/Tracking Form will request information needed to find clients six months after discharge to determine the outcome of their treatment. Clients will also be asked to read and sign a consent form for participation in subsequent stages of the study.

During treatment, sampled clients who are still in treatment will be contacted periodically by telephone and asked the questions in the Treatment Services Review, an extant instrument used to determine the treatment services and activities actually delivered to clients. This instrument will be administered periodically. Therefore, clients who spend more than 30 days in treatment will be asked to complete it more than once. Because of high initial drop-out rates, it is estimated that only 60 percent of clients will be asked to complete at least one Treatment Services Review.

Selected items from the expanded ASI will be administered to a sample of the original clients again shortly after they leave treatment and the sampled clients will be asked to confirm or update the locating information. Six months after discharge, a sample of 20 percent of the clients who left treatment will be interviewed in person or by telephone. The expanded ASI will be administered for a third time, and the LHI for a second time. Approximately one-third of this sample of clients, all interviewed in person, will also be asked to provide a urine sample for analysis.

To obtain a response rate at both the institutional and client levels that will support estimates in larger populations, CSAT plans to offer incentives for participation in NTOMS to both facilities and clients. Estimated annual burden for NTOMS is shown below:

Type of respondent and activity | Number of respondents | Responses/respondent | Hours/response | Total burden hours
Treatment Facilities
Addiction Treatment Inventory | 250 | 1 | 0.33 | 83
Facility Subtotal | 250 |  |  | 83
Clients
Instruments administered at admission or during treatment:
Expanded ASI at admission ¹ | 21,000 | 1 | 0.17 | 3,500
LHI at admission | 21,000 | 1 | 0.50 | 10,500
Waiting List questionnaire | 21,000 | 1 | 0.08 | 1,750
Treatment Services Review | 12,600 | ² 1.6 | 0.75 | 15,120
Instrument administered at discharge: Reduced ASI | 5,250 | 1 | 0.50 | 2,625
Instruments administered six months after discharge:
Follow-up interview | 1,975 | 1 | 0.50 | 988
Follow-up LHI | 1,975 | 1 | 0.25 | 494
Provision of urine sample | 670 | 1 | 0.08 | 56
Client subtotal | 21,000 |  |  | 35,033
Total | 21,250 |  |  | 35,116
¹ Time burden includes only marginal time required to administer NTOMS-specific items not normally included in the ASI when it is used as an intake instrument—GPRA items, TEDS minimum data set, locating information—and securing consent from patients.
² Assumes that TSR is administered once to 60% of admission sample, twice to 18%, three times to 13%, four times to 6%.

Send comments to Nancy Pearce, SAMHSA Reports Clearance Officer, Room 16-105, Parklawn Building, 5600 Fishers Lane, Rockville, MD 20857. Written comments should be received within 60 days of this notice.

Dated: November 24, 2002.
Richard Kopanda,
Executive Officer, SAMHSA.

[FR Doc. 02-30384 Filed 11-29-02; 8:45 am]

BILLING CODE 4162-20-P